COMMISSION ON CIVIL RIGHTS

Agenda and Notice of Public Meeting of the California Advisory Committee

Notice is hereby given, pursuant to the provisions of the rules and regulations of the U.S. Commission on Civil Rights that a meeting of the California Advisory Committee to the Commission will convene at 10 a.m. and adjourn at 4 p.m. on Wednesday, May 15, 2002, at the San Diego Airport/Harbor Island, 1960 Harbor Island Drive, San Diego, California 92101. The purpose of the planning meeting with briefing is to plan future activities, and for the Committee to be brief on racial profiling by community leaders and public officials.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, April 15, 2002.
Ivy L. Davis,
Chief, Regional Programs Coordination Unit.

[FR Doc. 02-9674 Filed 4-18-02; 8:45 am]

BILLING CODE 6335-01-P